FEDERAL MARITIME COMMISSION

Ocean Transportation Intermediary License; Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 003676NF.

Name: Bax Global Inc. dba Bax Global Lines.

Address: 440 Exchange, Irvine, CA 92602.

Date Revoked: September 1, 2008.

Reason: Surrendered license voluntarily.

License Number: 017378F.

Name: E.M.W. Freight Forwarding Corp.

Address: 10300 Northwest 19th St., Ste. 104, Miami, FL 33172.

Date Revoked: September 5, 2008.

Reason: Failed to maintain a valid bond.

License Number: 019573N.

Name: Longron Corporation dba Time Logistics.

Address: 5415 Hilton Ave., Temple City, CA 91780.

Date Revoked: September 18, 2008.

Reason: Failed to maintain a valid bond.

License Number: 003456F.

Name: Marli Shipping, Inc.

Address: 155 Algonquin Parkway, Whippany, NJ 07981.

Date Revoked: September 13, 2008.

Reason: Failed to maintain a valid bond.

License Number: 003327NF.

Name: New Wave Logistics (USA) Inc. dba Double Wing Express.

Address: 2417 E. Carson Street, Ste. 200, Long Beach, CA 90810.

Date Revoked: September 2, 2008.

Reason: Surrendered license voluntarily.

License Number: 002328F.

Name: Ross Freight Company, Inc.

Address: 26302 So. Western Ave., #7, Lomita, CA 90717.

Date Revoked: September 19, 2008.

Reason: Failed to maintain a valid bond.

License Number: 018531NF.

Name: Saltair Projects, LLC dba Sunband Transport.

Address: 18900 8th Ave., So., Ste. 1100, Seatac, WA 98148.

Date Revoked: September 3, 2008.

Reason: Failed to maintain valid bonds.

License Number: 020403NF.

Name: Six Master International, Inc.

Address: 1971 W. 190th St., Ste. 150, Torrance, CA 90504.

Date Revoked: September 19, 2008.

Reason: Failed to maintain valid bonds.

License Number: 004395F.

Name: Superior Link International Inc.

Address: 380 S. Lemon Ave., Ste. G, Walnut, CA 91789.

Date Revoked: September 11, 2008.

Reason: Failed to maintain a valid bond.

License Number: 003989F.

Name: Time Definite Services, Inc.

Address: 2551 Allan Drive, Elk Grove Village, IL 60007.

Date Revoked: September 21, 2008.

Reason: Failed to maintain a valid bond.

License Number: 021583NF.

Name: Trident Logistics Inc.

Address: 3 University Plaza, Ste. 405, Hackensack, NJ 07601.

Date Revoked: September 17, 2008.

Reason: Surrendered license voluntarily.

Sandra L. Kusumoto,
Director, Bureau of Certification and Licensing.

[FR Doc. E8-23154 Filed 9-30-08; 8:45 am]

BILLING CODE 6730-01-P